DEPARTMENT OF EDUCATION

[CFDA Nos: 84.015A and 84.015B]

Office of Postsecondary Education, International Education Programs Service

ACTION: Notice announcing technical assistance workshop for fiscal year (FY)2006 National Resource Centers for Foreign Language and Area Studies or Foreign Language and International Studies and Foreign Language and Area Studies Fellowships Programs.

SUMMARY: This notice provides information about a workshop to assist institutions of higher education interested in preparing grant applications for FY2006 new awards under the Title VI, National Resource Centers (NRC) and Foreign Language and Area Studies (FLAS) Fellowships Programs. Program staff will present information about the purpose of these programs, selection criteria, application content, submission procedures, and reporting requirements.

Although the Department has not yet announced an application deadline date in the Federal Register for the FY2006 NRC and FLAS competition, the Department is holding this workshop to give potential applicants guidance for preparing applications for the competition we expect to conduct in FY2006. Specific requirements for the FY2006 competition will be published in a separate Federal Register notice. This notice announces the technical assistance workshop only.

FOR FURTHER INFORMATION CONTACT: Cheryl Gibbs, Ed McDermott, Sara Starke, Karla Ver Bryck Block, or Amy Wilson, International Education Programs Service, U.S. Department of Education, 1990 K Street, NW., 6th Floor, Washington, DC 20006-8521. Telephone: (202) 501-7700 or by e-mail: OPE_NRC-FLAS@ed.gov.

If you use a telecommunications device for the deaf (TDD), you may call the Federal Information Relay Service (FIRS) at 1-800-877-8339.

Individuals with disabilities may obtain this document in an alternative format (e.g., Braille, large print, audiotape, or computer diskette) on request to the program contact persons listed in this section.

SUPPLEMENTARY INFORMATION: The technical assistance workshop will be held as follows:

Arlington, Virginia: Registration, 5 p.m.-7 p.m., Sunday, February 13. Technical Assistance Workshop sessions will be conducted 8 a.m.-5 p.m., Monday and Tuesday, February 14-15, 2005. Crystal Gateway Marriott, 1700 Jefferson Davis Highway, Arlington, Virginia 22202, Telephone: 1 (800) 228-9290 or (703) 920-3230.

There is no registration fee for this workshop. However, space at the workshop is limited. Attendees are required to make their own reservations directly with the hotel. The Department has reserved a limited number of rooms at the hotel at a special government per diem room rate of $150.00. To reserve this rate, be certain to inform the hotel that you are attending the “U.S. Department of Education NRC and FLAS Technical Assistance Workshop.” You must make your reservations on or before Saturday, January 22, 2005.

Assistance to Individuals With Disabilities Attending the Technical Assistance Workshop

The technical assistance workshop site is accessible to individuals with disabilities. If you will need an auxiliary aid or service to participate in the workshop (e.g., interpreting service, assistive listening device, or materials in an alternative format) notify the contact persons listed under FOR FURTHER INFORMATION CONTACT at least two weeks before the scheduled workshop date. Although we will attempt to meet a request received after this date, we may not be able to make available the requested auxiliary aid or service because of insufficient time to arrange it.

Electronic Access to this Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: December 8, 2004.
Sally L. Stroup,
Assistant Secretary for Postsecondary Education.

[FR Doc. E4-3637 Filed 12-13-04; 8:45 am]

BILLING CODE 4000-01-P